DEPARTMENT OF HOMELAND SECURITY

Coast Guard

33 CFR Part 117

[Docket No. USCG-2017-0524]

Drawbridge Operation Regulation; Mill River, New Haven, CT

AGENCY: Coast Guard, DHS.

ACTION: Notice of deviation from drawbridge regulation; modification.

SUMMARY: The Coast Guard has modified a temporary deviation from the operating schedule that governs the Chapel Street Bridge across the Mill River, mile 0.4 at New Haven, Connecticut. This modified deviation is necessary to accommodate delays to the bridge deck replacement and various repairs. This modified deviation allows the bridge to open for the passage of vessels upon two hours of advance notice as well as a twelve day closure of the draw to all vessel traffic.

DATES: This modified deviation is effective without actual notice from August 8, 2017 through 11:59 p.m. on September 9, 2017. For purposes of enforcement, actual notice will be used from 12:01 a.m. on August 1, 2017 until August 8, 2017.

ADDRESSES: The docket for this deviation, USCG-2017-0524, is available at http://www.regulations.gov. Type the docket number in the “SEARCH” box and click “SEARCH”. Click on Open Docket Folder on the line associated with this deviation.

FOR FURTHER INFORMATION CONTACT: If you have questions on this temporary deviation, call or email James M. Moore, Bridge Management Specialist, First District Bridge Branch, U.S. Coast Guard; telephone 212-514-4334, email James.M.Moore2@uscg.mil.

SUPPLEMENTARY INFORMATION: The City of New Haven, the owner of the bridge, requested a temporary deviation from the normal operating schedule to facilitate rehabilitation of the bridge, specifically replacement of the bridge deck. The Chapel Street Bridge, across the Mill River, mile 0.4 at New Haven, Connecticut offers mariners a vertical clearance of 7.9 feet at mean high water and 14 feet at mean low water in the closed position. The existing drawbridge operating regulations are listed at 33 CFR 117.213(d).

On July 6, 2017, the Coast Guard published a temporary deviation entitled “Drawbridge Operation Regulation; Mill River, New Haven, CT” in the Federal Register (82 FR 31253). Under that temporary deviation, the Chapel Street Bridge would open for mariners provided a two hour advance notice was furnished to the owner of the bridge (with the bridge authorized to remain closed during weekday rush hour timeframes with the exception of recognized federal holidays) and the draw would remain closed to all vessels requiring an opening from 12:01 a.m. July 27, 2017 until 11:59 p.m. August 7, 2017 to facilitate the pouring/curing of new bridge deck material. The draw would then revert to opening for mariners given two hours of advance notice until September 9, 2017.

Due to project delays precipitated by the discovery of advanced corrosion of the steel deck grid prior to the planned pouring of concrete deck material as well as associated remediation of the same corrosion, the City of New Haven has requested that until 11:59 p.m. August 9, 2017 the draw of the Chapel Street Bridge open for the passage of vessels requiring an opening provided two hours of advance notice is furnished to the owner of the bridge; except that, from 7:30 a.m. to 8:30 a.m. and 4:45 p.m. to 5:45 p.m., Monday through Friday, except Federal holidays, the draw need not open for the passage of vessel traffic. The bridge will remain closed to all vessels requiring an opening from 12:01 a.m. August 10, 2017 until 11:59 p.m. August 21, 2017 to facilitate the pouring/curing of new bridge deck material. From 12:01 a.m. August 22, 2017 until 11:59 p.m. September 9, 2017 the bridge will open for the passage of vessels requiring an opening provided two hours of advance notice is furnished to the owner of the bridge; except that from 7:30 a.m. to 8:30 a.m. and 4:45 p.m. to 5:45 p.m., Monday through Friday, except Federal holidays, the draw need not open for the passage of vessel traffic.

The bridge routinely opens for commercial vessels. Nevertheless, the requirement for two hours of advance notice has not impeded routine waterway operations. Mariners have offered no objection to a twelve day closure of the draw in order to complete the necessary deck replacement. The concrete pour and curing process can be accomplished in four days, but a twelve day closure period has been requested in order to take inclement weather into account. The bridge will resume operations as soon as the curing process has been completed. The City of New Haven has maintained open lines of communication with waterway operators and ensured all project developments are quickly disseminated to all relevant parties.

Vessels that can pass under the bridge without an opening may do so at all times. The bridge will be not able to open for emergencies. There is no alternate route for vessels to pass.

The Coast Guard will also inform the users of the waterways through our Local and Broadcast Notices to Mariners of the change in operating schedule for the bridge so that vessel operators can arrange their transits to minimize any impact caused by the temporary deviation.

In accordance with 33 CFR 117.35(e), the drawbridge must return to its regular operating schedule immediately at the end of the effective period of this temporary deviation. This deviation from the operating regulations is authorized under 33 CFR 117.35.

Dated: August 2, 2017.
Christopher J. Bisignano,
Supervisory Bridge Management Specialist, First Coast Guard District.

[FR Doc. 2017-16644 Filed 8-7-17; 8:45 am]

BILLING CODE 9110-04-P